FEDERAL COMMUNICATIONS COMMISSION

[ET Docket No. 13-101; DA 13-1344]

Technological Advisory Council Recommendation for Improving Receiver Performance

AGENCY: Federal Communications Commission.

ACTION: Notice.

SUMMARY: The FCC's Technological Advisory Council (TAC) has been tasked to study the role of receivers in ensuring the efficient use of spectrum and to provide recommendations on avoiding obstacles posed by receiver performance to making spectrum available for new services. The Office of Engineering & Technology (“OET”) released a document in this proceeding seeking comment on the Technological Advisory Council (“TAC”) White Paper. OET invited comment on the TAC white paper and its recommendations to help determine what next steps may be appropriate. The Commission extends the comment and reply comment filing deadlines as described with regard to comments to the Public Notice of the TAC White Paper and its recommendations.

DATES: Comments must be filed on or before July 22, 2013, and reply comments must be filed on or before August 7, 2013.

ADDRESSES: You may submit comments, identified by ET Docket No. 13-101, by any of the following methods:

Federal Communications Commission's Web site: http://fjallfoss.fcc.gov/ecfs2/. Follow the instructions for submitting comments.

Mail: Robert Pavlak, Office of Engineering and Technology, Electromagnetic Compatibility Division, Room 6-A420, Federal Communications Commission, 445 12th Street SW., Washington, DC 20554.

People with Disabilities: Contact the FCC to request reasonable accommodations (accessible format documents, sign language interpreters, CART, etc.) by email: FCC504@fcc.gov or phone: 202-418-0530 or TTY: 202-418-0432.

For detailed instructions for submitting comments and additional information on the rulemaking process, see the SUPPLEMENTARY INFORMATION section of this document.

FOR FURTHER INFORMATION CONTACT: Robert Pavlak, Office of Engineering and Technology, (202) 418-0761, email Robert.Pavlak@fcc.gov, or Ronald Repasi, email Ronald.Repasi@fcc.gov (202) 418-0768, TTY (202) 418-2989.

SUPPLEMENTARY INFORMATION: This is a summary of the Commission's Public Notice, ET Docket No. 13-101, DA 13-1344, released June 10, 2013. The full text of this document is available for inspection and copying during normal business hours in the FCC Reference Center (Room CY-A257), 445 12th Street SW., Washington, DC 20554. The complete text of this document also may be purchased from the Commission's copy contractor, Best Copy and Printing, Inc., 445 12th Street SW., Room, CY-B402, Washington, DC 20554. The full text may also be downloaded at: www.fcc.gov.

Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

Electronic Filers: Comments may be filed electronically using the Internet by accessing the ECFS: http://fjallfoss.fcc.gov/ecfs2/.

Paper Filers: Parties who choose to file by paper must file an original and one copy of each filing. If more than one docket or rulemaking number appears in the caption of this proceeding, filers must submit two additional copies for each additional docket or rulemaking number. Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th Street SW., Room TW-A325, Washington, DC 20554. The filing hours are 8:00 a.m. to 7:00 p.m. All hand deliveries must be held together with rubber bands or fasteners. Any envelopes and boxes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington DC 20554.

People with Disabilities: To request materials in accessible formats for people with disabilities (braille, large print, electronic files, audio format), send an email to fcc504@fcc.gov or call the Consumer & Governmental Affairs Bureau at 202-418-0530 (voice), 202-418-0432 (tty).

Summary of the Public Notice

1. On April 22, 2013, the Office of Engineering & Technology (“OET”) released a Public Notice in this docket seeking comment on Technological Advisory Council (“TAC”) White Paper, titled, Interference Limits Policy—The use of harm claim thresholds to improve the interference tolerance of wireless systems and its recommendations. In a jointly filed “Motion for Extension of Time,” the Consumer Electronics Association (“CEA”), National Association of Broadcasters (“NAB”), and GPS Innovation Alliance (“GPSIA”) ask pursuant to § 1.46 of the Commission's rules that the comment and reply deadlines each be extended by 30 days. By this Public Notice, we extend the comment and reply comment filing deadlines as described with regard to comments to the Public Notice of the TAC White Paper and its recommendations.

2. It is the Commission's policy under section 1.46(a) that extensions of time are not routinely granted. In the instant case, however, we find that extending the comment and reply comment periods for remarks on the TAC White Paper, its recommendations, and questions posed in the Public Notice more broadly on receiver performance, will serve the public interest by allowing commenters additional time to review the technical contents and unique policy proposals outlined in the White Paper. Accordingly, we hereby grant the request jointly filed by CEA, NAB, and GPSIA and extend the deadline for filing comments to July 22, 2013 and the deadline for filing reply comments to August 7, 2013. This action is taken pursuant to authority found in Section 4(i) of the Communications Act of 1934, as amended, 47 U.S.C. 154(i), and sections 0.31, 0.241, and 1.46 of the Commission's rules, 47 CFR 0. 31, 0.241, and 1.46.

Federal Communications Commission.
Julius P. Knapp,
Chief, Office of Engineering and Technology.

[FR Doc. 2013-14404 Filed 6-17-13; 8:45 am]

BILLING CODE 6712-01-P